OFFICE OF PERSONNEL MANAGEMENT

Submission for OMB Review; Comment Request For Review Of A Revised Information Collection

[OMB Control No. 3206-0033; Form RI 25-7]

AGENCY: Office of Personnel Management.

ACTION: Notice.

SUMMARY: In accordance with the Paperwork Reduction Act of 1995 (Pub. L. 104-13, May 22, 1995), this notice announces that the Office of Personnel Management (OPM) intends to submit to the Office of Management and Budget (OMB) a request for comments on a revised information collection. This information collection Marital Status Certification Survey, “(OMB Control No. 3206-0033; Form RI 25-7), is used to determine whether widows, widowers, and former spouses receiving survivor annuities from OPM have remarried before reaching age 55 and, thus, are no longer eligible for benefits.

There are approximately 24,000 respondents. Each form takes approximately 15 minutes to complete. The annual estimated burden is 625 hours.

For copies of this proposal, contact Cyrus S. Benson on (202) 606-4808, FAX (202) 606-0910 or via E-mail to Cyrus.Benson@opm.gov. Please include a mailing address with your request.

DATES: Comments on this proposal should be received within 30 calendar days from the date of this publication.

ADDRESSES: Send or deliver comments to—

James K. Freiert, Deputy Assistant Director, Retirement Services Program, Center for Retirement and Insurance Services, U.S. Office of Personnel Management, 1900 E Street, NW., Room 3305, Washington, DC 20415-3500.

and

OPM Desk Officer, Office of Information & Regulatory Affair, Office of Management and Budget, New Executive Office Building, 725 17th Street, NW., Room 10235, Washington, DC 20503.

For information regarding administrative Coordination contact:

Cyrus S. Benson, Team Leader, Publications Team, RIS Support Services/Support Group, 1900 E Street, NW., Room 4H28, Washington, DC 20415, (202) 606-0623.

U.S. Office of Personnel Management.
John Berry,
Director.

[FR Doc. E9-15565 Filed 6-30-09; 8:45 am]

BILLING CODE 6325-38-P